DEPARTMENT OF DEFENSE

Department of the Navy

32 CFR Part 763

[Docket ID: USN-2018-HQ-0006]

RIN 0703-AB00

Rules Governing Public Access

AGENCY: Department of the Navy, Department of Defense.

ACTION: Final rule.

SUMMARY: This final rule removes DoD's regulation requiring individuals wishing to visit Kaho‘olawe Island, Hawaii, to receive advance authorization from the Commanding Officer of Naval Base, Pearl Harbor before doing so. This part provided entry procedures for individuals wishing to visit Kaho‘olawe Island, Hawaii, and its adjacent waters due to ongoing military training operations and the presence of unexploded ordnance (UXO). On November 11, 2003, upon the completion of UXO clearance and environmental restoration, control of access to Kaho‘olawe was passed from the United States to the State of Hawaii. Since that time, Navy has not exercised access control to Kaho‘olawe Island or its adjacent waters. This part is no longer required.

DATES: This rule is effective on July 6, 2018.

FOR FURTHER INFORMATION CONTACT: Steven James at 703-601-0514.

SUPPLEMENTARY INFORMATION: It has been determined that publication of this rule removal in the CFR for public comment is impracticable, unnecessary, and contrary to public interest since it is based on removing policies and procedures that are no longer in effect, and which have not been in effect for over 14 years.

Removal of this part does not reduce burden or cost on the public in any way, nor does it add any costs. This burden ended in 2003. Kaho‘olawe Island was used by the armed forces of the United States as a training area, including bombing and gunnery training ranges, under authority granted by Executive Order No. 10436 of February 20, 1953. The Commanding Officer, Naval Base Pearl Harbor controlled entry to the area. Title X of the Fiscal Year 1994 Department of Defense Appropriations Act directed the Navy to convey Kaho‘olawe and its surrounding waters to the state of Hawaii. As directed by Title X, and in accordance with a required memorandum of understanding between the U.S. Navy and the State of Hawaii, the Navy transferred the title of the island of Kaho‘olawe to the state of Hawaii on May 9, 1994. On November 11, 2003, upon the completion of UXO clearance and environmental restoration, control of access to Kaho‘olawe was passed from the United States to the State of Hawaii. Since that time, Navy has not exercised access control to Kaho‘olawe Island or its adjacent waters.

List of Subjects in 32 CFR Part 763

Federal buildings and facilities, Military law, National defense measures.

PART 763—[REMOVED]

Accordingly, by the authority of 5 U.S.C. 301, 32 CFR part 763 is removed.

Dated: June 28, 2018.
E.K. Baldini,
Lieutenant Commander, Judge Advocate General's Corps, U.S. Navy, Federal Register Liaison Officer.

[FR Doc. 2018-14508 Filed 7-5-18; 8:45 am]

BILLING CODE 3810-FF-P